DEPARTMENT OF AGRICULTURE

National Agricultural Statistics Service

Notice of Intent To Seek Approval To Conduct an Information Collection

AGENCY: National Agricultural Statistics Service, USDA.

ACTION: Notice and request for comments.

SUMMARY: We are making a correction to information published in a Notice that announced the intent of the National Agricultural Statistics Service (NASS) to request approval for an information collection, the Childhood Agricultural Injury Study of Minority Farm Operators. The Notice was published in the Federal Register on June 21, 2000 on page 38498. The scope of the survey has been expanded and it is now the National Childhood Agricultural Injury and Occupational Health Survey of Minority Farm Operators.

DATES: Comments on this notice must be received by October 18, 2000, to be assured of consideration.

ADDITIONAL INFORMATION OR COMMENTS: Contact Rich Allen, Associate Administrator, National Agricultural Statistics Service, U.S. Department of Agriculture, 1400 Independence Avenue SW, Room 4117 South Building, Washington, D.C. 20250-2000, (202) 720-4333.

SUPPLEMENTARY INFORMATION: On June 21, 2000, we published in the Federal Register a Notice that announced the intent of the National Agricultural Statistics Service (NASS) to request approval for an information collection described as the Childhood Agricultural Injury Study of Minority Farm Operators. Another survey, the Occupational Health Survey of Minority Farm Operators, has now been merged with the injury survey to reduce the number of contacts on the same target population. We have updated the abstract below and are extending the comment period to provide an additional 30 days for comment.

Title: National Childhood Agricultural Injury and Occupational Health Survey of Minority Farm Operators.

Type of Request: Intent to Seek Approval to Conduct an Information Collection.

Abstract: The National Childhood Agricultural Injury and Occupational Health Survey of Minority Farm Operators is designed to (1) provide estimates of childhood nonfatal injury incidence and description of injury occurring to children less than 20 years of age who reside, work, or visit farms operated by minorities and (2) describe the occupational health status of ethnic and racial minority farm operators, including African American, Native American, Hispanic, and other minority operators. In addition to these minority populations, female farm operators will be included in the survey and a smaller number of white male operators will be contacted as a comparison group. Data will be collected by telephone from all 50 states with 40,000 receiving the injury questionnaire, 10,000 receiving the health questionnaire, and 10,000 receiving both questionnaires. Data will relate to accidents, injuries and occupational health problems occurring during the 2000 calendar year. These data will be used by the National Institute of Occupational Safety and Health to (1) establish a measure of the number and rate of childhood injuries associated with production agriculture and study the specific types of injuries sustained and (2) describe the scope and magnitude of occupationally-related health problems of minority and female farm operators and their families. Reports will be generated and information disseminated to all interested parties concerning the finding of this study. These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 12 minutes per response for the injury questions and 25 minutes per response for the health questions. The injury instrument allows for screen-outs for non-farms and households with no children.

Respondents: Minority Farm Operators.

Estimated Number of Respondents: 60,500.

Estimated Total Annual Burden on Respondents: 13,503 hours.

Copies of this information collection and related instructions can be obtained without charge from Ginny McBride, the Agency OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, 1400 Independence Avenue SW, Room 4162 South Building, Washington, D.C. 20250-2000.

All responses to this notice will become a matter of public record and be summarized in the request for OMB approval.

Signed at Washington, D.C., August 9, 2000.
Rich Allen,
Associate Administrator.

[FR Doc. 00-23909 Filed 9-15-00; 8:45 am]

BILLING CODE 3410-20-P